DEPARTMENT OF LABOR

Office of the Secretary

Submission for OMB Review: Comment Request

July 25, 2008.

The Department of Labor (DOL) hereby announces the submission of the following public information collection requests (ICR) to the Office of Management and Budget (OMB) for review and approval in accordance with the Paperwork Reduction Act of 1995 (Pub. L. 104-13, 44 U.S.C. chapter 35). A copy of each ICR, with applicable supporting documentation; including among other things a description of the likely respondents, proposed frequency of response, and estimated total burden may be obtained from the RegInfo.gov Web site at http://www.reginfo.gov/public/do/PRAMain or by contacting Darrin King on 202-693-4129 (this is not a toll-free number) / e-mail: king.darrin@dol.gov.

Interested parties are encouraged to send comments to the Office of Information and Regulatory Affairs, Attn: Bridget Dooling, OMB Desk Officer for the Employment Standards Administration (ESA), Office of Management and Budget, Room 10235, Washington, DC 20503, Telephone: 202-395-7316 / Fax: 202-395-6974 (these are not toll-free numbers), E-mail: OIRA_submission@omb.eop.gov within 30 days from the date of this publication in the Federal Register. In order to ensure the appropriate consideration, comments should reference the OMB Control Number (see below).

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Employment Standards Administration.

Type of Review: Extension without change of a currently approved collection.

Title of Collection: Miner's Claim for Benefits Under the Black Lung Benefits Act and Employment History.

OMB Control Number: 1215-0052.

Form Numbers: CM-911 and CM-911A.

Total Estimated Number of Respondents: 7,500.

Total Estimated Annual Burden Hours: 5,250.

Total Estimated Annual Cost Burden: $1,449.

Affected Public: Individuals or Households.

Description: The Form CM-911 is the standard application filed by the miner for benefits under the Black Lung Benefits Act of 1977 and subsequent amendments (30 U.S.C. 901 et seq.). The applicant lists the coal miner's work history on the CM-911A which helps to establish if a miner currently or formerly worked in the nation's coal mines. For additional information, see related notice published at 73 FR 23274 on April 29, 2008.

Agency: Employment Standards Administration.

Type of Review: Extension without change of a currently approved collection.

Title of Collection: Application of the Employee Polygraph Protection Act.

OMB Control Number: 1215-0170.

Form Numbers: WH-1481.

Total Estimated Number of Respondents: 164,000.

Total Estimated Annual Burden Hours: 68,739.

Total Estimated Annual Cost Burden: $0.

Affected Public: Business or other for-profit and not-for-profit institutions.

Description: The U.S. Department of Labor, Wage and Hour Division (WHD) uses the subject information collection (third-party disclosures and recordkeeping) requirements to ensure that individuals subjected to polygraph testing receive the rights and protections provided by the Employee Polygraph Protection Act of 1988. For additional information, see related notice published at 73 FR 23273 on April 29, 2008.

Darrin A. King,
Departmental Clearance Officer.

[FR Doc. E8-17451 Filed 7-29-08; 8:45 am]

BILLING CODE 4510-CF-P